DEPARTMENT OF JUSTICE

Notice of Lodging of Proposed Settlement Under the Clean Air Act, the Clean Water Act, and the Resource Conservation and Recovery Act

On May 16, 2013, a proposed Stipulation Between Debtors and the United States Environmental Protection Agency (“Stipulation”) was lodged with the United States Bankruptcy Court for the District of Delaware in the Chapter 11 Proceeding entitled In re WP Steel Venture, et al., Case No. 12-11661.

The Stipulation resolves EPA's Proofs of Claim for civil penalties for alleged violations of the Clean Air Act, the Clean Water Act and the Resource Conservation and Recovery Act regarding three debtors in the jointly administered bankruptcy proceedings: RG Steel Sparrows Point, LLC; RG Steel Warren, LLC; and RG Steel Wheeling, LLC. Specifically, the Stipulation provides that EPA will have an allowed general unsecured claim in the amount of $15,748,295 in connection with EPA's claim that RG Steel Wheeling is liable for civil penalties for violation of the Clean Water Act at its former facilities in Yorkville and Martins Ferry, Ohio, and the Clean Air Act and the Resource Conservation and Recovery Act at its former facilities in Mingo Junction and Steubenville, Ohio and its facility in Follansbee, West Virginia. The Stipulation also provides that EPA will have an allowed general unsecured claim in the amount of $4,132,776 in connection with EPA's claim that RG Steel Warren is liable for civil penalties for violation of the Clean Air Act at its former facility located in Warren, Ohio. In addition, the Stipulation provides that EPA will have an allowed general unsecured claim in the amount of $8,431 in connection with EPA's claim that RG Steel Sparrows Point is liable for civil penalties for violation of a Consent Agreement and Final Order issued under the Clean Air Act at its former facility located in Sparrows Point, Maryland.

The publication of this notice opens a period for public comment on the proposed Stipulation. Comments should be addressed to the Assistant Attorney General, Environment and Natural Resources Division, and should refer to In re WP Steel Venture, LLC, et al., D.J. Ref. No. 90-7-1-10607. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Stipulation may be examined and downloaded at this Justice Department Web site: http://www.usdoj.gov/enrd/Consent_Decrees.html. We will provide a paper copy of the Stipulation upon written request and payment of reproduction costs. Please mail your request and payment to: Consent Decree Library, U.S. DOJ—ENRD, P.O. Box 7611, Washington, DC 20044-7611.

Please enclose a check or money order for $4.00 (25 cents per page reproduction cost) payable to the United States Treasury.

Maureen Katz,
Assistant Section Chief, Environmental Enforcement Section, Environment and Natural Resources Division.

[FR Doc. 2013-12270 Filed 5-22-13; 8:45 am]

BILLING CODE 4410-15-P